DEPARTMENT OF AGRICULTURE

Rural Housing Service

7 CFR Part 1924

RIN 0575-AC60

Withdrawal of Direct Final Rule for Surety Requirements

AGENCY: Rural Housing Service, USDA.

ACTION: Withdrawal of direct final rule.

SUMMARY: The Rural Housing Service (RHS) is withdrawing the direct final rule to change the threshold for surety requirements, published on January 7, 2005 (70 FR 1325-26). RHS stated in the direct final rule that if it received adverse comments by March 8, 2005, the agency would publish a timely notice of withdrawal in the Federal Register. RHS subsequently received adverse comments and, therefore, is withdrawing the direct final rule.

DATES: Effective Date: The direct final rule published on January 7, 2005, at 70 FR 1325-26 is withdrawn as of March 7, 2005.

FOR FURTHER INFORMATION CONTACT: Michel Mitias, Technical Support Branch, Program Support Staff, Rural Housing Service, U.S. Department of Agriculture, STOP 0761, 1400 Independence Avenue SW., Washington, DC 20250-0761; Telephone: 202-720-9653; FAX: 202-690-4335; E-mail: michel.mitias@usda.gov.

SUPPLEMENTARY INFORMATION: RHS published a direct final rule amending its regulations to change the threshold for surety requirements guaranteeing payment and performance from a $100,000 contract amount to the maximum Rural Development Single Family Housing area lending limit. RHS received adverse comments on this direct final rule. Therefore, the agency is withdrawing the direct final rule. The regulations addressing surety requirements will not take effect on April 7, 2005.

List of Subjects in 7 CFR Part 1924

Agriculture, Construction management, Construction and repair, Energy conservation, Housing, Loan programs—Agriculture, Low and moderate income housing.

Dated: February 24, 2005.
Rodney E. Hood,
Acting Administrator, Rural Housing Service.

[FR Doc. 05-4323 Filed 3-4-05; 8:45 am]

BILLING CODE 3410-XV-P